DEPARTMENT OF HOMELAND SECURITY

Coast Guard

33 CFR Part 117

[Docket No. USCG-2017-0485]

Drawbridge Operation Regulation; Lewis Creek Channel, Chincoteague, VA

AGENCY: Coast Guard, DHS.

ACTION: Notice of deviation from drawbridge regulation.

SUMMARY: The Coast Guard has issued a temporary deviation from the operating schedule that governs the SR 175 Bridge, mile 0.0 across the Lewis Creek Channel, at Chincoteague, VA. This deviation allows the bridge to remain in the closed-to-navigation position to facilitate bridge maintenance work.

DATES: The deviation is effective from Noon, on September 20, 2017, through 6 p.m. on September 21, 2017.

ADDRESSES: The docket for this deviation, [USCG-2017-0485] is available at http://www.regulations.gov. Type the docket number in the “SEARCH” box and click “SEARCH”. Click on Open Docket Folder on the line associated with this deviation.

FOR FURTHER INFORMATION CONTACT: If you have questions on this temporary deviation, call or email Mr. Martin Bridges, Bridge Administration Branch Fifth District, Coast Guard, telephone 757-398-6422, email Martin.A.Bridges@uscg.mil.

SUPPLEMENTARY INFORMATION: The Virginia Department of Transportation, who owns and operates the SR 175 Bridge, mile 0.0 across the Lewis Creek Channel, at Chincoteague, VA, has requested a temporary deviation from the current operating regulation set out in 33 CFR 117.5, to perform maintenance on the movable span.

Under this temporary deviation, the bridge will remain in the closed-to-navigation position from Noon on September 20, 2017, through 6 p.m. on September 21, 2017. The bridge is a bascule span drawbridge with a vertical clearance of 15 feet above mean high water in the closed-to-navigation position and unlimited vertical clearance in the open position.

The Lewis Creek Channel is used by recreational vessels. The Coast Guard has carefully considered the nature and volume of vessel traffic on the waterway in publishing this temporary deviation.

Vessels able to pass through the bridge in the closed-to-navigation position may do so at anytime. The bridge will not be able to open for emergencies and there is no immediate alternate route for vessels unable to pass through the bridge in the closed position while maintenance is being performed. The Coast Guard will also inform the users of the waterway through our Local Notice and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: July 24, 2017.
Hal R. Pitts,
Bridge Program Manager, Fifth Coast Guard District.

[FR Doc. 2017-15920 Filed 7-27-17; 8:45 am]

BILLING CODE 9110-04-P